DEPARTMENT OF THE INTERIOR

Bureau of Land Management

[LLCAD6000.L51010000.ER0000.LVRWB20B5120.20XL1109AF;MO#4500153248]

Notice of Availability of the Record of Decision for the Crimson Solar Project and the Proposed Amendment to the California Desert Conservation Area Plan, Riverside County, CA

AGENCY: Bureau of Land Management, Interior.

ACTION: Notice of availability.

SUMMARY: In accordance with the National Environmental Policy Act of 1969, as amended, and the Federal Land Policy and Management Act of 1976, as amended, the Bureau of Land Management (BLM) has prepared a Record of Decision (ROD) for the Final Environmental Impact Statement (EIS)/Environmental Impact Report (EIR)/Plan Amendment developed for the proposed Crimson Solar Project, and by this notice is announcing its availability.

DATES: The Principal Deputy Assistant Secretary, Land and Minerals Management, Department of the Interior signed the ROD on April 30, 2021.

ADDRESSES: Copies of the ROD are available for public inspection during regular business hours at 1201 Bird Center Drive, Palm Springs, CA 92262. Due to COVID-19 related office closures, an appointment must be made in advance. Please contact the project manager listed below to make an appointment. Interested persons may also review the ROD at: https://go.usa.gov/xACdN.

FOR FURTHER INFORMATION CONTACT: Miriam Liberatore, Project Manager, telephone: 541-618-2200; email: mliberat@blm.gov; mailing address: Bureau of Land Management, 3040 Biddle Road, Medford, OR 97504. Persons who use a telecommunications device for the deaf (TDD) may call the Federal Relay Service (FRS) at 1-800-877-8339 to contact Ms. Liberatore. The FRS is available 24 hours a day, 7 days a week, to leave a message or question. You will receive a reply during normal business hours.

SUPPLEMENTARY INFORMATION: Sonoran West Solar Holdings LLC (the Applicant), a wholly owned subsidiary of Recurrent Energy LLC, applied for a right-of-way grant for a photovoltaic solar project with the BLM. The applicant proposed to construct, operate, maintain, and decommission a maximum 350-megawatt photovoltaic solar facility with integrated battery storage and necessary ancillary facilities, including project substations, access roads, operations and maintenance buildings, and lay down areas. The Proposed Action included 2,500 acres of BLM-administered land in the Riverside East Solar Energy Zone.

In addition to the Proposed Action (Alternative A), the Final EIS/EIR/Plan Amendment considered a no-action alternative and two action alternatives. Alternative B, Alternative Design, included one or more of three design elements to reduce grading, trenching, and vegetation removal during construction. Alternative C, Reduced Acreage Alternative, was the same as described under Alternative A in the number and size of project-related facilities and energy generation, but the project area was reduced to 2,049 acres. All action alternatives proposed amending the California Desert Conservation Area (CDCA) Plan to allow the project. The Agency Preferred Alternative combines the reduced grading and reduced vegetation removal elements of Alternative B and the facility sizes, locations, and separation by unit under Alternative C. The Selected Alternative is the Preferred Alternative with the inclusion of the paved access road from Power Line Road described under Alternative A. The CDCA Plan requires proposed utility sites not previously identified in the plan and proposed transmission lines outside designated utility corridors be considered through a Plan Amendment. This decision therefore amends the CDCA Plan to identify the Crimson Solar Project site as suitable for solar energy generation and to recognize the development of a high-voltage transmission line outside a designated corridor.

The Draft EIS/EIR/Plan Amendment was circulated for a 90-day public comment period initiated in October 2019, Federal Register Notice of Availability (84 FR 58738). The BLM held public meetings on December 2 and 3, 2019, in Palm Desert and Blythe, respectively. Twenty-one comments were received during the comment period. Responses to substantive comments were in Appendix W of the Final EIS/EIR/Plan Amendment. Public comments resulted in the addition of clarifying text but did not warrant changes in the analysis or conclusions. The Final EIS/EIR/Plan Amendment was published February 12, 2021 (86 FR 9335), initiating a 30-day protest period and a concurrent Governor's consistency review of up to 60 days. During the protest period for the Proposed Amendments to the RMPs, the BLM received three protest letters. All protests were resolved prior to the issuance of the RODs. For a full description of the issues raised during the protest period and how they were addressed, please refer to the BLM Protest Resolution Report, which is available online at https://www.blm.gov/programs/planning-and-nepa/public-participation/protest-resolution-reports. The Governor of California reviewed the Final EIS and Proposed Amendments to the RMPs and did not identify any inconsistencies with State or local plans, policies, or programs.

The BLM selects the Agency Preferred Alternative with the addition of the paved access road under Alternative A and amends the CDCA Plan. This decision constitutes the final decision of the Department of the Interior and is not subject to appeal under departmental regulations at 43 CFR part 4. Any challenge to this decision must be brought in the Federal District Court.

(Authority: 40 CFR part 1500; 43 CFR part 1610; 42 U.S.C. 4370m-6(a)(1))

Laura Daniel-Davis,
Principal Deputy Assistant Secretary, Land and Minerals Management.

[FR Doc. 2021-09678 Filed 5-6-21; 8:45 am]

BILLING CODE 4310-40-P